DEPARTMENT OF THE INTERIOR

Bureau of Land Management

[NV-930-1430-ER]

Notice of Intent; NV

AGENCY: Bureau of Land Management, Interior.

ACTION: Notice of intent to prepare an environmental impact statement (EIS) for the Toquop Energy Project/Lincoln County well field, water pipeline and access road rights-of-way in southeastern Lincoln County, Nevada.

SUMMARY: The action to be evaluated by this EIS is the granting of rights-of-way across public land administered by the Bureau of Land Management in southeastern Lincoln County, Nevada. The rights-of-way have been requested by Toquop Energy, Inc. and Lincoln County, Nevada for use in developing a water well field, water pipelines and improving an existing access road to the site of a proposed 1100 megawatt electrical generating plant. The power plant will be located on private land.

ADDRESSES: Written comments should be addressed to: Bureau of Land Management, Gene A. Kolkman, Field Manager, Ely, HC 33, Box 33500, Ely, NV 89301-9408.

FOR FURTHER INFORMATION CONTACT: Daniel R. Netcher, Team Leader for Lands and Minerals, at the above address or telephone (775) 289-1872.

SUPPLEMENTARY INFORMATION: Toquap Energy has proposed a 1100 Megawatt electrical facility fueled by natural gas from the Kern River pipeline. The project will be located at T. 11 S., R. 69 E., Section 36 Mount Diablo Meridian. The power plant will be located on private lands and Toquap Energy has requested a Federal Land Policy and Management Act rights-of-way for road access and water pipeline access to the facility. This EIS will evaluate the proposed right of way Action (granting of requested rights-of-way) and a No Action alternative. In addition, the EIS may consider alternative locations/alignment of the well field, water pipelines and access road. Key issues likely to be considered in analyzing each alternative include groundwater hydrology; impacts to surface flows of the Virgin River; threatened and endangered species; cultural resources; air quality; and socioeconomic effects of the project.

Public Involvement

The public will be invited to participate in the scoping process, review of the draft Environmental Impact Statement, and a public meeting. The location and time of the scoping meeting to be scheduled during the month of Aug. 2001, will be announced in the local news media. Release of the draft EIS for public comment and the public meeting will also be announced in the local news media, as these dates are established.

Dated: June 20, 2001.
Gene A. Kolkman,
Field Manager.

[FR Doc. 01-18683 Filed 7-26-01; 8:45 am]

BILLING CODE 4310-HC-P